DEPARTMENT OF ENERGY

Federal Energy Regulatory Commission

[Docket No. RP03-473-001]

Enbridge Pipelines (KPC); Notice of Compliance Filing

June 19, 2003.

Take notice that on June 13, 2003, Enbridge Pipelines (KPC) (KPC) tendered for filing as part of its FERC Gas Tariff, First Revised Volume No. 1, Substitute Original Sheet No. 182, to be made effective November 1, 2002.

KPC states that the purpose of this filing is to comply with the Commission's order issued June 6, 2003, which required KPC to modify the language in section 26.8 of the General Terms and Conditions (GT&C) of KPC's tariff.

KPC states that the instant filing complies with the Commission's June 6, 2003, order. No other changes in KPC's tariff are proposed.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 25, 2003.

Magalie R. Salas,
Secretary.

[FR Doc. 03-16211 Filed 6-25-03; 8:45 am]

BILLING CODE 6717-01-P